DEPARTMENT OF COMMERCE

International Trade Administration

Export Trade Certificate of Review

ACTION: Notice of Issuance of an Amended Export Trade Certificate of Review, Application No. 05-2A001.

SUMMARY: On February 21, 2007, The U.S. Department of Commerce issued an amended Export Trade Certificate of Review to Central America Poultry Export Quota, Inc. (“CA-PEQ”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2005).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original CA-PEQ Certificate (No. 05-00001) was issued on January 30, 2006 (71 FR 6753, February 9, 2006) and last amended on July 11, 2006 (71 FR 40076, July 14, 2006).

CA-PEQ's Export Trade Certificate of Review has been amended to—

1. Change the Export Trade Activities and Methods of Operation section of its certificate at part 2 (Implementation), F (Contents of Bid), first sentence, (ii) from: the quantity of poultry bid, in an amount that is a multiple of 25 metric tons to: the quantity of poultry bid, with a minimum bid of one metric ton.

2. Allow for the public disclosure of the following two additional pieces of information regarding the result of its public tender process: (a) The average bid price for all successful bids; and (b) the names of the successful bidders. This change would be reflected by amending the Export Trade Activities and Methods of Operation section of its certificate at part 2 (Implementation), H (Confidentiality of Information) from: The Administrator shall treat all bids and their contents as confidential. The Administrator shall disclose any such information only to another neutral third party or authorized government official of the United States, El Salvador, Guatemala, Honduras or Nicaragua, signatories to the DR-CAFTA, and only where necessary to ensure the effective operation of the TRQ System or where required by law (including appropriate disclosure in connection with the arbitration of a dispute). However, after the issuance of all TRQ Certificates from an open-tender process, the Administrator shall notify all bidders and shall disclose publicly (i) the total tonnage for which TRQ Certificates were awarded, and (ii) the lowest price per metric ton of all successful bids to: The Administrator shall treat all bids and their contents as confidential. The Administrator shall disclose any such information only to another neutral third party or authorized government official of the United States, El Salvador, Guatemala, Honduras or Nicaragua, signatories to the DR-CAFTA, and only where necessary to ensure the effective operation of the TRQ System or where required by law (including appropriate disclosure in connection with the arbitration of a dispute). However, after close of each open-tender process the Administrator shall notify all bidders and shall disclose publicly (i) the total tonnage for which TRQ certificates were awarded, (ii) the lowest price per metric ton of all successful bids, (iii) the average price per metric ton for all successful bids, and (iv) the names of the winning bidders.

The effective date of the amended certificate is November 28, 2006. A copy of the amended certificate will be kept in the International Trade Administration's Freedom of Information Records Inspection Facility, Room 4100, U.S. Department of Commerce, 14th Street and Constitution Avenue, NW., Washington, DC 20230.

Dated: February 21, 2007.
Jeffrey C. Anspacher,
Director, Export Trading Company Affairs.

[FR Doc. E7-3409 Filed 2-26-07; 8:45 am]

BILLING CODE 3510-DR-P